DEPARTMENT OF HOMELAND SECURITY

Coast Guard

[Docket No. USCG-2016-0193]

Certificates of Alternative Compliance, First Coast Guard District

AGENCY: Coast Guard, DHS.

ACTION: Notice.

SUMMARY: The Coast Guard announces that the First Coast Guard District's Prevention Department has issued certificates of alternative compliance with the International Regulations for Preventing Collisions at Sea (72 COLREGS), to vessels of special construction or purpose that cannot fully comply with the light, shape, and sound signal provisions of 72 COLREGS without interfering with their special function. This notice promotes the Coast Guard's maritime safety and stewardship missions.

FOR FURTHER INFORMATION CONTACT: For information about this document call or email Mr. Kevin Miller, First Coast Guard District's Towing Vessel and Barge Safety Specialist at (617) 223-8272 or [Kevin.L.Miller2@uscg.mil].

SUPPLEMENTARY INFORMATION:

Discussion

The United States is signatory to the International Maritime Organization's International Regulations for Preventing Collisions at Sea, 1972, as amended. The special construction or purpose of some vessels makes them unable to comply with the light, shape, and sound signal provisions of 72 COLREGS. Under statutory law ¹ and Coast Guard regulation,² a vessel may instead meet alternative requirements and the vessel's owner, builder, operator, or agent may apply for a certificate of alternative compliance (COAC). The Chief of the Inspections and Investigations Branch in each Coast Guard District office determines whether the vessel for which the COAC is sought complies as closely as possible with 72 COLREGS, and decides whether to issue the COAC. Once issued, a COAC remains valid until information supplied in the application for the COAC, or the terms of the COAC, become inapplicable to the vessel. Under the governing statute ³ and regulation,⁴ the Coast Guard must publish notice of each COAC issued by the District office.

¹ 33 U.S.C. 1605.

² 33 CFR 81.3.

³ 33 U.S.C. 1605(c).

⁴ 33 CFR 81.18.

The First Coast Guard District issued COACs to the following vessels between 2012 and 2015:

Year | Vessel name | Details
2012 | MARK MORAN | This certificate authorizes the placement of the vessel's sidelights in a position 12′ 8.5″ from the vessel's side, mounted to the deckhouse.
2012 | KATIE MORAN | This certificate authorizes the placement of the vessel's sidelights in a position 12′ 8.5″ from the vessel's side, mounted to the deckhouse overhead.
2012 | ANNABELLE DOROTHY MORAN | This certificate authorizes the placement of the vessel's sidelights in a position 12′ 8.5″ from the vessel's side, mounted to the deckhouse overhead.
2013 | ATHENA | This certificate authorizes the placement of the vessel's sidelights in a position 13′ 3″ from the vessel's side, mounted to the deckhouse overhead.
2013 | APOLLO | This certificate authorizes the placement of the vessel's sidelights in a position 13′ 3″ from the vessel's side, mounted to the deckhouse overhead.
2013 | B. FRANKLIN REINAUER | This certificate authorizes the placement of the vessel's sidelights in a position 8′ 5″ from the vessel's side, mounted to the deckhouse overhead, and the placement of the masthead light 3′ 9″ aft of amidships, mounted to the mast above the deckhouse.
2013 | CURTIS REINAUER | This certificate authorizes the placement of the vessel's sidelights in a position 8′ 5″ from the vessel's side, mounted to the deckhouse overhead, and the placement of the masthead light 3′ 9″ aft of amidships, mounted to the mast above the deckhouse.
2013 | EVENING STAR | This certificate authorizes the placement of the vessel's sidelights in a position 9′ 3″ from the vessel's side, mounted to the deckhouse overhead.
2013 | PATRIOT | This certificate authorizes the placement of the vessel's sidelights in a position 13′ 3″ from the vessel's side, mounted to the pilot house overhead.
2013 | HAGGERTY GIRLS | This certificate authorizes the placement of the vessel's sidelights in a position 5′ 2″ from the vessel's tower, mounted to the deckhouse overhead, and the placement of the forward masthead in a position 3′ 9″ aft of amidships.
2014 | HALEY MORAN | This certificate authorizes the placement of the vessel's sidelights in a position 13′ 3″ from the vessel's side, mounted to the pilot house overhead.
2014 | GEORGE T. MORAN | This certificate authorizes the placement of the vessel's sidelights in a position 13′ 3″ from the vessel's side, mounted to the pilot house overhead.
2014 | BUCKLEY MCALLISTER | This certificate authorizes the placement of the vessel's sidelights in a position 6′ 3 15/16″ from the centerline of the vessel's tower, mounted to the deckhouse overhead.
2014 | DEAN REINAUER | This certificate authorizes the placement of the vessel's sidelights in a position 7′ 1.75″ from the vessel's side, mounted to the deckhouse overhead, and the placement of the masthead light 3′ 9″ aft of amidships, mounted to the mast above the deckhouse.
2014 | DENISE A. BOUCHARD | This certificate authorizes the placement of the vessel's sidelights in a position 9′ 3″ from the vessel's side, mounted to the deckhouse.
2014 | ERIC McALLISTER | This certificate authorizes the placement of the vessel's sidelights in a position 6′ 3 13/16″ from the vessel's centerline, 10′ 8 1/16″ from the side shell, mounted to the deckhouse overhead.
2014 | HAYLEY MORAN | This certificate authorizes the placement of the vessel's sidelights in a position 13′ 3″ from the vessel's side, mounted to the pilot house overhead.
2014 | BATTEN KILL | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | SNOOK KILL | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | BIG BEND | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | FISHER | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | THREE SISTERS | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | STURGEON | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | MARTEN | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | GRIFFIN | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | RANGER | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | THOMPSON | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | TURNING POINT | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | ROGERS | This certificate authorizes the operation of the pilothouse in the down position (height of 13′ 3.6″), reducing the masthead light by 2′ 3.6″ from the up position (height 15' 7.2”), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | WASHINGTON | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | EAGLE | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | CUSHING | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | SARATOGA | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | CHAMPLAIN | This certificate authorizes the operation of the pilothouse in the down position (height of 13′ 3.6″), reducing the masthead light by 2′ 3.6″ from the up position (height 15′ 7.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | HR BASS | This certificate authorizes the operation of the pilothouse in the down position (height of 14.1′ 1.2″), reducing the masthead light by 7′ 0.0″ from the up position (height 21′ 1.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | HR BEAVER | This certificate authorizes the operation of the pilothouse in the down position (height of 14.1′ 1.2″), reducing the masthead light by 7′ 0.0″ from the up position (height 21′ 1.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | HR HAWK | This certificate authorizes the operation of the pilothouse in the down position (height of 14.1′ 1.2″), reducing the masthead light by 7′ 0.0″ from the up position (height 21′ 1.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | HR OTTER | This certificate authorizes the operation of the pilothouse in the down position (height of 14.1′ 1.2″), reducing the masthead light by 7′ 0.0″ from the up position (height 21′ 1.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2014 | HR PIKE | This certificate authorizes the operation of the pilothouse in the down position (height of 14.1′ 1.2″), reducing the masthead light by 7′ 0.0″ from the up position (height 21′ 1.2″), mounted to the pilothouse overhead. Additionally, this certificate authorizes the display of only one masthead light in lieu of two masthead lights located at the top of the towing vessel wheelhouse. This certificate is only valid between Champlain Canal Mile Marker 0 to Champlain Canal Mile Marker 39. EXPIRED: December 31, 2015.
2015 | CHANDRA B. | This certificate authorizes the placement of the vessel's mast head light on a hinged mast in a position 16′ 05″ from the vessel's deck, mounted to the stern deckhouse overhead.
2015 | DYLAN COOPER | This certificate authorizes the placement of the vessel's sidelights in a position 7′ 1.75″ from the vessel's side, mounted to the deckhouse overhead.
2015 | PAYTON GRACE MORAN | This certificate authorizes the placement of the vessel's sidelights in a position 13′ 5.25″ from the vessel's side, mounted to the pilot house roof. Additionally, this certificate authorizes the placement of the vessel's stern light & towing lights in a position 3′ 4.5″ aft of Frame 20.
2015 | KIRBY MORAN | This certificate authorizes the placement of the vessel's sidelights in a position 13′ 5.25″ from the vessel's side, mounted to the pilot house roof. Additionally, this certificate authorizes the placement of the vessel's stern light & towing lights in a position 3′ 4.5″ aft of Frame 20.
2015 | JAMES D. MORAN | This certificate authorizes the placement of the vessel's sidelights in a position 13′ 5.25″ from the vessel's side, mounted to the pilot house roof. Additionally, this certificate authorizes the placement of the vessel's stern light & towing lights in a position 3′ 4.5″ aft of Frame 20.
2015 | JRT MORAN | This certificate authorizes the placement of the vessel's sidelights in a position 13′ 5.25″ from the vessel's side, mounted to the pilot house roof. Additionally, this certificate authorizes the placement of the vessel's stern light & towing lights in a position 3′ 4.5″ aft of Frame 20.
2015 | JONATHAN C MORAN | This certificate authorizes the placement of the vessel's sidelights in a position 13′ 5.25″ from the vessel's side, mounted to the pilot house roof. Additionally, this certificate authorizes the placement of the vessel's stern light & towing lights in a position 3′ 4.5″ aft of Frame 20.

This notice is issued under authority of 5 U.S.C. 552(a), 33 U.S.C. 1605(c), and 33 CFR 81.18.

Dated: March 16, 2016.
B. L. Black,
Captain, U.S. Coast Guard, Chief of Prevention, First Coast Guard District.

[FR Doc. 2016-08219 Filed 4-8-16; 8:45 am]

BILLING CODE 9110-04-P